DEPARTMENT OF TRANSPORTATION

Federal Aviation Administration

14 CFR Part 39

[Docket No. FAA-2015-0669; Directorate Identifier 2013-SW-038-AD; Amendment 39-18373; AD 2016-01-14]

RIN 2120-AA64

Airworthiness Directives; Airbus Helicopters Deutschland GmbH (Previously Eurocopter Deutschland GmbH) Helicopters

AGENCY: Federal Aviation Administration (FAA), DOT.

ACTION: Final rule.

SUMMARY: We are adopting a new airworthiness directive (AD) for Airbus Helicopters Deutschland GmbH (AHD) (previously Eurocopter Deutschland GmbH) Model MBB-BK 117 A-1, A-3, A-4, B-1, B-2, C-1, and C-2 helicopters. This AD requires an initial and recurring inspection of the N2 control arm and, depending on the outcome of the inspection, repairing or replacing the N2 control arm. This AD was prompted by a report of a heavily corroded and broken N2 control arm. The actions of this AD are intended to detect corrosion, a crack, or a scratch in the N2 control arm, which could lead to failure of the N2 control arm, a drop in rotor speed, and subsequent loss of control of the helicopter.

DATES: This AD is effective February 25, 2016.

The Director of the Federal Register approved the incorporation by reference of certain documents listed in this AD as of February 25, 2016.

ADDRESSES: For service information identified in this final rule, contact Airbus Helicopters, Inc., 2701 N. Forum Drive, Grand Prairie, Texas 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177.

Examining the AD Docket

You may examine the AD docket on the Internet at http://www.regulations.gov in Docket No. FAA-2015-0669 or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: James Blyn, Aviation Safety Engineer, Regulations and Policy Group, Rotorcraft Directorate, FAA, 10101 Hillwood Pkwy., Fort Worth, TX 76177; telephone (817) 222-5110; email james.blyn@faa.gov.

SUPPLEMENTARY INFORMATION:

Discussion

On March 24, 2015, at 80 FR 15530, the Federal Register published our notice of proposed rulemaking (NPRM), which proposed to amend 14 CFR part 39 by adding an AD that would apply to AHD Model MBB-BK 117 A-1, A-3, A-4, B-1, B-2, C-1, and C-2 helicopters. The NPRM proposed to require repetitive visual inspections of the N2 control arm for corrosion, a crack, and a scratch. The NPRM also proposed to require repairing any N2 control arm with corrosion or a scratch less than 0.020 inch in depth and replacing any N2 control arm with exfoliation corrosion, a crack, or with corrosion or a scratch 0.020 inch or greater in depth. The proposed requirements were intended to detect corrosion, a crack, or a scratch in the N2 control arm, which could lead to failure of the N2 control arm, a drop in rotor speed, and subsequent loss of control of the helicopter.

The NPRM was prompted by AD No. 2013-0154, dated July 22, 2013, issued by EASA, which is the Technical Agent for the Member States of the European Union, to correct an unsafe condition for the Eurocopter Deutschland GmbH (now AHD) Model MBB-BK117 A-1, A-3, A-4, B-1, B-2, C-1, and C-2 helicopters. EASA advises of an incident with a Model MBB-BK117 C-2 helicopter that dropped rotor speed (RPM) within the green range and could not be recovered to nominal value because of a heavily corroded and broken N2 control arm. EASA advises that under certain flight conditions and power demands, a broken N2 control arm can cause a significant and non-recoverable drop in RPM. As a result, EASA AD No. 2013-0154 requires an initial and repetitive inspection of the N2 control arm for corrosion, damage, and scratches, and depending on the outcome of the inspection, repairing or replacing the N2 control arm.

Since the NPRM was issued, the FAA Southwest Regional Office has relocated and a group email address has been established for requesting an FAA alternative method of compliance for a helicopter of foreign design. We have revised the contact information throughout this final rule to reflect the new address and new email address.

Comments

We gave the public the opportunity to participate in developing this AD, but we did not receive any comments on the NPRM (80 FR 15530, March 24, 2015).

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs and that air safety and the public interest require adopting the AD requirements as proposed except for the minor editorial changes described above. These changes are consistent with the intent of the proposals in the NPRM (80 FR 15530, March 24, 2015) and will not increase the economic burden on any operator nor increase the scope of this AD.

Differences Between This AD and the EASA AD

The EASA AD allows a noncumulative tolerance of 3 months in the compliance time for the initial inspection on helicopters with less than 2 years from the date of first flight and for the repetitive inspections, and this AD does not.

Related Service Information Under 1 CFR Part 51

Eurocopter issued ASB MBB-BK117-60A-126 for Model MBB-BK 117 A-1, A-3, A-4, B-1, B-2, and C-1 helicopters, and ASB MBB-BK117 C-2-76A-005 for Model MBB-BK 117 C-2 helicopters, both Revision 0, and both dated June 24, 2013. The Eurocopter ASBs specify inspecting the N2 control arm for corrosion, damage, and scratches and, depending on the outcome of the inspection, either repairing or replacing the affected parts. The Eurocopter ASBs also specify performing the inspection with each 12 month inspection until the N2 inspection requirements are incorporated into the aircraft maintenance manual.

This service information is reasonably available because the interested parties have access to it through their normal course of business or by the means identified in the ADDRESSES section.

Costs of Compliance

We estimate that this AD affects 441 helicopters of U.S. Registry. We estimate that operators may incur the following costs in order to comply with this AD. Labor costs are estimated at $85 per work-hour. Inspecting the N2 control arm requires about one work-hour for an estimated cost of $85 per helicopter and $37,485 for the U.S. fleet per inspection cycle. Repairing the N2 control arm requires about four work-hours for an estimated labor cost of $340. Replacing the N2 control arm requires about three work-hours for an estimated labor cost of $255. Parts to replace the N2 control arm for Model MBB-BK 117 A-1, A-3, A-4, B-1, B-2, and C-1 helicopters cost about $2,743 for a total estimated cost of $2,998. Parts to replace the N2 control arm for a Model MBB-BK 117 C-2 helicopter cost about $4,500 for a total estimated cost of $4,755.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-01-14 Airbus Helicopters Deutschland GmbH (AHD) (Previously Eurocopter Deutschland GmbH): Amendment 39-18373; Docket No. FAA-2015-0669; Directorate Identifier 2013-SW-038-AD.

(a) Applicability

This AD applies to AHD Model MBB-BK 117 A-1, A-3, A-4, B-1, B-2, C-1, and C-2 helicopters, certificated in any category.

(b) Unsafe Condition

This AD defines the unsafe condition as corrosion, a crack, or a scratch on an N2 control arm. This condition could lead to failure of the N2 control arm, resulting in a reduction in rotor speed and subsequent loss of control of the helicopter.

(c) Effective Date

This AD becomes effective February 25, 2016.

(d) Compliance

You are responsible for performing each action required by this AD within the specified compliance time unless it has already been accomplished prior to that time.

(e) Required Actions

For helicopters that have not reached 2 years from the date of first flight, within 1 year or before reaching 2 years from the date of first flight, whichever occurs first; and for helicopters that have reached or exceeded 2 years from the date of first flight, within 50 hours TIS:

(1) Visually inspect each N2 control arm for corrosion, a crack, and a scratch as depicted in Figure 1 of Eurocopter Alert Service Bulletin (ASB) MBB-BK117-60A-126 or ASB MBB-BK117 C-2-76A-005, both Revision 0, and both dated June 24, 2013, as applicable to your model helicopter.

(i) If an N2 control arm has corrosion or a scratch less than 0.5 millimeter (mm) (0.020 inch) in depth, before further flight, remove the corrosion and repair the scratch.

(ii) If an N2 control arm has any exfoliation corrosion, a crack, or has corrosion or a scratch 0.5 mm (0.020 inch) or greater in depth, before further flight, replace the N2 control arm.

(2) Thereafter, perform the requirements in paragraph (e)(1) of this AD at intervals not to exceed 12 months.

(f) Alternative Methods of Compliance (AMOCs)

(1) The Manager, Safety Management Group, FAA, may approve AMOCs for this AD. Send your proposal to: James Blyn, Aviation Safety Engineer, Regulations and Policy Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2013-0154, dated July 22, 2013. You may view the EASA AD on the Internet at http://www.regulations.gov in Docket No. FAA-2015-0669.

(h) Subject

Joint Aircraft Service Component (JASC) Code: Engine Controls, 7600.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Eurocopter Alert Service Bulletin (ASB) MBB-BK117-60A-126, Revision 0, dated June 24, 2013.

(ii) Eurocopter ASB MBB-BK117 C-2-76A-005, Revision 0, dated June 24, 2013.

(3) For Eurocopter service information identified in this final rule, contact Airbus Helicopters, Inc., 2701 N. Forum Drive, Grand Prairie, Texas 75052; telephone (972) 641-0000 or (800) 232-0323; fax (972) 641-3775; or at http://www.airbushelicopters.com/techpub.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 6, 2016.
Bruce E. Cain,
Acting Manager, Rotorcraft Directorate, Aircraft Certification Service.

[FR Doc. 2016-00658 Filed 1-20-16; 8:45 am]

BILLING CODE 4910-13-P